DEPARTMENT OF COMMERCE

National Oceanic and Atmospheric Administration

[I.D. 042605B]

New England Fishery Management Council; Public Meetings

AGENCY: National Marine Fisheries Service (NMFS), National Oceanic and Atmospheric Administration (NOAA), Commerce.

ACTION: Public meetings.

SUMMARY: The New England Fishery Management Council (Council) is scheduling public meetings of its Herring and Habitat/MPA/Ecosystems Oversight Committees in May, 2005 to consider actions affecting New England fisheries in the exclusive economic zone (EEZ). Recommendations from these groups will be brought to the full Council for formal consideration and action, if appropriate.

DATES: The meetings will be held on May 17-18, and May 26, 2005. See SUPPLEMENTARY INFORMATION for specific dates and times.

ADDRESSES: The meetings will be held in Peabody, MA, and Narragansett, RI. See SUPPLEMENTARY INFORMATION for specific locations.

FOR FURTHER INFORMATION CONTACT: Paul J. Howard, Executive Director, New England Fishery Management Council (978) 465-0492. Requests for special accommodations should be addressed to the New England Fishery Management Council, 50 Water Street, Mill 2, Newburyport, MA 01950; telephone: (978) 465-0492.

SUPPLEMENTARY INFORMATION:

Meeting Dates and Agendas

Tuesday, May 17, 2005 at 9:30 a.m. and Wednesday, May 18, 2005 at 9 a.m.—Herring Oversight Committee Meeting.

Location: Holiday Inn, One Newbury Street, Peabody, MA 01960; telephone:(978) 535-4600.

The Committee will review updated surveys, trends in herring stock status, and related Herring Plan Development Team (PDT) conclusions/recommendations; review work/analyses completed for the Draft Supplemental Environmental Impact Statement (DSEIS) for Amendment 1 to the Herring Fishery Management Plan and address any outstanding issues regarding the Amendment 1 alternatives and measures under consideration and provide clarification and guidance to the Herring PDT as appropriate. Also on the agenda will be review of the work completed by the Herring and Groundfish PDTs regarding a measure to establish bycatch caps for groundfish stocks of concern and finalize the details of this measure for inclusion in Amendment 1. They will also discuss concerns related to the role of herring as a forage species and localized depletion and begin to develop a strategy to address these issues over the short-term and long-term.

Thursday, May 26, 2005 at 9:30 a.m.—Habitat/MPA/Ecosystem Oversight Committee Meeting.

Location: Village Inn, Narragansett, One Beach Street, Narragansett, RI 02882; telephone: (401) 783-6767.

The Committee will continue work on elements of the Essential Fish Habitat Omnibus Amendment 2 including, but not limited to; review of the progress on the Habitat Advisory Panel's gear descriptions document preparation; receive an update on the progress of the NMFS Habitat Evaluation Working Group (EFH designation methods) and review the Terms of Reference for Phase 1 of the upcoming two-part Habitat Evaluation Review Committee peer review workshop in June 2005; receive an update on the progress by the PDT to conduct a risk assessment to evaluate the vulnerability, availability and recovery of impacts to EFH and presentation of Habitat Area of Particular Concern Proposals received by the Council during the Request for Proposal Period which ended March 25, 2005. Other topics to be addressed by the Committee include: a briefing on the various Liquified Natural Gas proposals in the Northeast Region; presentation of the preliminary results of the Marine Protected Areas Education and Outreach Workshops which are scheduled for May 5-6 and May 10-11, 2005. In addition the Committee will receive an update on Ecosystems Pilot Project and will discuss other topics at their discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: April 27, 2005.
Tracey Thompson,
Acting Director, Office of Sustainable Fisheries, National Marine Fisheries Service.

[FR Doc. E5-2069 Filed 4-29-05; 8:45 am]

BILLING CODE 3510-22-S